DEPARTMENT OF COMMERCE

Patent and Trademark Office

[Docket No.: PTO-P-2017-0051]

Manual of Patent Examining Procedure, Ninth Edition, Revision of January 2018

AGENCY: United States Patent and Trademark Office, Commerce.

ACTION: Notice.

SUMMARY: The United States Patent and Trademark Office (“USPTO”) issued a revision of the ninth edition of the Manual of Patent Examining Procedure (“MPEP”) in January 2018 to provide updated information on patent examination policy and procedure (“January 2018 revision”). The MPEP is published to provide patent examiners and the public with a reference work on the practices and procedures relative to the prosecution of patent applications before the USPTO. The MPEP contains instructions to examiners, as well as other material in the nature of information and interpretation, and outlines the current procedures which the examiners are required or authorized to follow in appropriate cases in the normal examination of a patent application.

ADDRESSES: The USPTO prefers that suggestions for improving the form and content of the MPEP be submitted via email to mpepfeedback@uspto.gov or via the IdeaScale® tool available at: https://uspto-mpep.ideascale.com/a/index. Written comments may also be submitted by mail addressed to: Commissioner for Patents, P.O. Box 1450, Alexandria, VA 22313-1450, marked to the attention of Editor, Manual of Patent Examining Procedure. The USPTO prefers that any comments or suggestions specifically directed to subject matter eligibility be directed to: 2014_interim_guidance@uspto.gov.

FOR FURTHER INFORMATION CONTACT: Robert A. Clarke, Editor of the MPEP by telephone (571-272-7735) or by email (Robert.Clarke@uspto.gov) or Linda Therkorn, Patent Examination Policy Advisor by telephone (571-272-7837) or by email (Linda.Therkorn@uspto.gov).

SUPPLEMENTARY INFORMATION: The USPTO issued a revision to the ninth edition of the MPEP in January 2018, which provides USPTO patent examiners, applicants, attorneys, agents, representatives of applicants, and other members of the public with a reference work on the practices and procedures relative to the prosecution of patent applications before the USPTO. The MPEP contains instructions to examiners, as well as other material in the nature of information and interpretation, and outlines the current procedures which the examiners are required or authorized to follow in appropriate cases in the normal examination of a patent application. Although the MPEP does not have the force of law or the force of the rules in Title 37 of the Code of Federal Regulations, it “is well known to those registered to practice in the PTO and reflects the presumptions under which the PTO operates.” Critikon, Inc. v. Becton Dickinson Vascular Access, Inc., 120 F.3d 1253, 1257 (Fed. Cir. 1997).

In the January 2018 revision, sections of chapters 200, 700-1000, 1200, 1400, 1500, 1800, 2000-2300, 2500, and 2700 have been updated. The updated sections have a revision indicator of [R-08.2017], meaning these sections have been updated to reflect USPTO patent practice and relevant case law as of August 31, 2017. In addition, Chapter FPC (the Form Paragraph Book), the Table of Contents, Foreword, Introduction, Subject Matter Index, and all Appendices except Appendix I and Appendix P have been updated. The changes in the January 2018 revision are discussed in the Change Summary for the Ninth Edition, Revision 08.2017. The policies stated in the January 2018 revision supersede any policies stated in prior editions, including revisions, of the MPEP to the extent that there is any conflict.

The January 2018 revision of the ninth edition of the MPEP may be viewed or downloaded free of charge from the USPTO website at https://www.uspto.gov/web/offices/pac/mpep/ and is available to search online at http://mpep.uspto.gov. Archived copies of each of the prior revisions and editions of the MPEP continue to be available for reference. Links to the archived copies are available on the USPTO website at https://www.uspto.gov/web/offices/pac/mpep/old/index.htm.

Dated: January 25, 2018.
Joseph Matal,
Associate Solicitor, performing the functions and duties of the Under Secretary of Commerce for Intellectual Property and Director of the United States Patent and Trademark Office.

[FR Doc. 2018-01866 Filed 1-30-18; 8:45 am]

BILLING CODE 3510-16-P